NUCLEAR REGULATORY COMMISSION

[NRC-2024-0171]

Performance Review Boards for Senior Executive Service

AGENCY: Nuclear Regulatory Commission.

ACTION: Appointments.

SUMMARY: The Nuclear Regulatory Commission (NRC) has announced appointments to the NRC Performance Review Board (PRB) that is responsible for making recommendations on performance appraisal ratings and performance awards for NRC Senior Executives and Senior Level System employees and appointments to the NRC PRB Panel responsible for making recommendations to the appointing and awarding authorities for NRC PRB members.

DATES: October 1, 2024.

ADDRESSES: Please refer to Docket ID NRC-2024-0171 when contacting the NRC about the availability of information regarding this document. You may obtain publicly available information related to this document using any of the following methods:

• Federal Rulemaking Website: Go to https://www.regulations.gov and search for Docket ID NRC-2024-0171. Address questions about Docket IDs in Regulations.gov to Stacy Schumann; telephone: 301-415-0624; email: Stacy.Schumann@nrc.gov. For technical questions, contact the individual listed in the For Further Information Contact section of this document

• NRC's Agencywide Documents Access and Management System (ADAMS): You may obtain publicly available documents online in the ADAMS Public Documents collection at https://www.nrc.gov/reading-rm/adams.html. To begin the search “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Jennifer M. Golder, Secretary, Executive Resources Board, U.S. Nuclear Regulatory Commission, Washington, DC 20555-0001; telephone: 301-287-0741, email: Jennifer.Golder@nrc.gov.

SUPPLEMENTARY INFORMATION: The following individuals appointed as members of the NRC PRB are responsible for making recommendations to the appointing and awarding authorities on performance appraisal ratings and performance awards for Senior Executives and Senior Level System employees:

• Marila Gavrilas, Ph.D., Co-Chair, Executive Director for Operations

• Brooke P. Clark, Co-Chair, General Counsel

• Owen F. Barwell, Chief Financial Officer

• James C. Corbett, Director, Office of Administration

• Craig G. Erlanger, Acting Director, Office of Nuclear Security and Incident Response

• John W. Lubinski, Director, Office of Nuclear Material Safety and Safeguards

• John D. Monninger, Regional Administrator, Region IV

• Scott A. Morris, Deputy Executive Director for Reactor and Preparedness Programs, Office of the Executive Director for Operations

• David L. Pelton, Director, Office of Enforcement

• Andrea D. Veil, Director, Office of Nuclear Reactor Regulation

Jennifer M. Golder, Chief Human Capital Officer and Vonna L. Ordaz, Director, Office of Small Business and Civil Rights, will serve as non-voting advisory members of the PRB.

The following individuals will serve as members of the NRC PRB Panel that was established to review appraisals and make recommendations to the appointing and awarding authorities for NRC PRB members:

• Mary B. Spencer, Deputy General Counsel for Licensing, Hearings, and Enforcement, Office of the General Counsel

• Scott C. Flanders, Chief Information Officer

• David L. Skeen, Director, Office of International Programs

All appointments are made pursuant to chapter 43 of title 5 of the United States Code, section 4314.

Dated: September 26, 2024.
For the Nuclear Regulatory Commission.
Jennifer M. Golder,
Secretary, Executive Resources Board.

[FR Doc. 2024-22546 Filed 9-30-24; 8:45 am]

BILLING CODE 7590-01-P